DEPARTMENT OF ENERGY

Federal Energy Regulatory Commission

[Docket No. CP11-507-000]

Tres Palacios Gas Storage LLC; Notice of Application

Take notice that on July 5, 2011, Tres Palacios Gas Storage LLC (TPGS), Two Brush Creek Blvd., Suite 200, Kansas City, Missouri 64112, filed pursuant to section 7 of the Natural Gas Act (NGA) and part 157 the Commission's regulations, an abbreviated application for an amendment to its certificate of public convenience and necessity issued on September 20, 2007, Docket No. CP07-90-000; authorizing TPGS to implement limited changes to the certificated Tres Palacios Storage Facility located in Matagorda County, Texas. The filing may also be viewed on the web at http://www.ferc.gov using the “eLibrary” link. Enter the docket number excluding the last three digits in the docket number field to access the document. For assistance, contact FERC at FERCOnlineSupport@gerc.gov or call toll-free, (886) 208-3676 or TYY, (202) 502-8659.

TPGS proposes the substitution of a 15,300 hp single electric-driven centrifugal compressor for five not-yet-installed certificated 4,800hp gas-fired compressors and to construct associated appurtenances and facilities necessary for the safe operation of the new compressor (Compressor Substitution Project). The proposed project will be constructed within the existing footprint of the Tres Palacios Storage Facility on previous cleared land. TPGS does not propose any changes in the capacity, injection rates, or withdrawal rates authorized by the Commission. Also, TPGS does not propose any changes to the previously authorized services for the Tres Palacios Storage Facility.

Any questions regarding this application should be directed to Marvin T. Griff, Husch Blackwell LLP, 750 17th Street, NW., Washington, DC 20006-4656; telephone (202) 378-2311, fax (202) 378-2319, or e-mail marvin.griff@huschblackwell.com.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit original and 7 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's Web site under the “e-Filing” link. The Commission strongly encourages electronic filings.

Comment Date: July 28, 2011.

Dated: July 7, 2011.
Kimberly D. Bose,
Secretary.

[FR Doc. 2011-17596 Filed 7-12-11; 8:45 am]

BILLING CODE 6717-01-P